DEPARTMENT OF TRANSPORTATION

Federal Aviation Administration

14 CFR Part 71

[Docket No. FAA-2009-0695; Airspace Docket No. 09-AWP-7]

Establishment and Modification of Class E Airspace; Bishop, CA

AGENCY: Federal Aviation Administration (FAA), DOT.

ACTION: Final rule.

SUMMARY: This action will establish Class E surface airspace and modify existing Class E airspace at Bishop, CA. Additional controlled airspace is necessary to accommodate a new Area Navigation (RNAV) Global Positioning System (GPS) Standard Instrument Approach Procedure (SIAP) developed for Eastern Sierra Regional Airport, Bishop, CA. This will improve the safety and management of Instrument Flight Rules (IFR) operations at the airport.

DATES: Effective 0901 UTC, February 11, 2010. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On September 24, 2009, the FAA published in the Federal Register a notice of proposed rulemaking to modify and establish additional controlled airspace at Bishop, CA, (74 FR 48671). Interested parties were invited to participate in this rulemaking effort by submitting written comments on the proposal to the FAA. No comments were received.

Class E airspace designations are published in paragraph 6002 and 6005, respectively, of FAA Order 7400.9T signed August 27, 2009, and effective September 15, 2009, which is incorporated by reference in 14 CFR 71.1. The Class E airspace designations listed in this document will be published subsequently in that Order.

The Rule

This action amends Title 14 Code of Federal Regulations (14 CFR) part 71 by establishing Class E airspace designated as surface areas and modifying existing Class E airspace extending upward from 700 feet above the surface at Bishop, CA. Additional controlled airspace is necessary for the safety and management of IFR aircraft executing a new RNAV (GPS) SIAP at Eastern Sierra Regional Airport, Bishop, CA.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act. The FAAs authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Eastern Sierra Regional Airport, Bishop, CA.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009 is amended as follows:

Paragraph 6002 Class E airspace designated as surface areas.

* * * * *

AWP CA, E2 Bishop, CA [New]

Eastern Sierra Regional, CA

(Lat. 37°22′23″ N., long. 118°21′49″ W.)

Within a 4.2-mile radius of Eastern Sierra Regional Airport. This Class E airspace area is effective during the specific dates and times established in advance by a Notice to Airmen. The effective date and time will thereafter be continuously published in the Airport/Facility Directory.

* * * * *

Paragraph 6005 Class E airspace areas extending upward from 700 feet or more above the surface of the earth.

* * * * *

AWP CA, E5 Bishop, CA [Modified]

Eastern Sierra Regional, CA

(Lat. 37°22′23″ N., long. 118°21′49″ W.)

Beatty VORTAC

(Lat. 36°48′02″ N., long. 116°44′52″ W.)

LIDAT Intersection

(Lat. 37°25′49″ N., long. 117°16′41″ W.)

That airspace extending upward from 700 feet above the surface within a 6.7-mile radius of Eastern Sierra Regional Airport, and that airspace within 2.2 miles each side of the Eastern Sierra Regional Airport 337° bearing extending from the 6.7-mile radius to 27.8 miles northwest of the Eastern Sierra Regional Airport; and that airspace extending upward from 1,200 feet above the surface of the earth bounded by a line beginning at lat. 38°11′08″ N., long. 118°46′30″ W.; to lat. 38°13′14″ N., long. 118°41′00″ W.; to lat. 38°14′25″ N., long. 118°17′04″ W.; to lat. 38°03′17″ N., long. 118°02′30″ W.; to lat. 37°41′20″ N., long. 118°16′42″ W.; to lat. 37°09′50″ N., long. 118°00′13″ W.; to lat. 37°02′00″ N., long. 118°21′30″ W.; to lat. 38°11′08″ N., long. 118°57′00″ W.; thence to the point of origin. That airspace extending upward from 12,500 feet MSL within 4.3 miles each side of a direct course between the Eastern Sierra Regional Airport and LIDAT Intersection, 36.5 miles 12,500 feet MSL, 10,500 feet MSL LIDAT Intersection; and within 4.3 miles each side of a direct course between Eastern Sierra Regional Airport and the Beatty VORTAC 69.5 miles 12,500 feet MSL, 10,500 feet MSL Beatty VORTAC.

* * * * *

Issued in Seattle, Washington, on December 2, 2009.
H. Steve Karnes,
Acting Manager, Operations Support Group, Western Service Center.

[FR Doc. E9-29757 Filed 12-14-09; 8:45 am]

BILLING CODE 4910-13-P